FEDERAL COMMUNICATIONS COMMISSION

Sunshine Act, Meeting; Open Commission Meeting

The Federal Communications Commission will hold an Open Meeting on the subject listed below on Monday, June 2, 2003, which is scheduled to commence in Room TW-C305, at 445 12th Street, SW., Washington, DC.

Item no. | Bureau | Subject
1 | Media | Title: 2002 Biennial Regulatory Review—Review of the Commission's Broadcast Ownership Rules and Other Rules Adopted Pursuant to section 202 of the Telecommunications Act of 1996 (MB Docket No. 02-277); Cross-Ownership of Broadcast Stations and Newspapers (MM Docket No. 01-235); Rules and Policies Concerning Multiple Ownership of Radio Broadcast Stations in Local Markets (MM Docket No. 01-317); and Definition of Radio Markets (MM Docket No. 00-244).
|  | Summary: The Commission will consider a Report and Order concerning its broadcast multiple ownership rules.

With respect to item 1, pursuant to section 1.1200 of the Commission's rules, we find it in the public interest to modify the sunshine period set forth in section 1.1203 of the rules. We modify the sunshine period to permit ex parte presentations to continue through Friday, May 30, 2003.

Additional information concerning this meeting may be obtained from Audrey Spivack or David Fiske, Office of Media Relations, (202) 418-0500; TTY 1-888-835-5322.

Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Notice: Due to the elevated homeland security alert announced May 20, 2003, the FCC has taken additional security precautions that will limit visitor access to the FCC headquarters building in Washington, DC. Until further notice, the Maine Avenue lobby is closed. All visitors must enter the building through the 12th Street lobby, and will require an escort at all times in the building.

Federal Communications Commission.
Dated: May 23, 2003.
Marlene H. Dortch,
Secretary.

[FR Doc. 03-13512 Filed 5-27-03; 10:03 am]

BILLING CODE 6712-01-P